NUCLEAR REGULATORY COMMISSION

[Docket No. 70-143; NRC-2012-0091]

National Institute of Standards and Technology, Gaithersburg, Maryland

AGENCY: Nuclear Regulatory Commission.

ACTION: Notice of issuance of license renewal.

SUMMARY: The U.S. Nuclear Regulatory Commission (NRC) is providing notice of the issuance of License Renewal to Material License No. SNM-362, to the National Institute of Standards and Technology (NIST), which uses licensed materials for research, development, calibration, and testing activities.

ADDRESSES: Please refer to Docket ID NRC-2012-0091 when contacting the NRC about the availability of information regarding this document. You may access publicly-available information related to this action by the following methods:

• Federal Rulemaking Web site: Go to http://www.regulations.gov and search for Docket ID NRC-2012-0091. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. The ADAMS Accession Numbers for documents related to this notice are ML13207A263 and ML13207AA266 (License Renewal) and ML13212A132 (Safety Evaluation Report and Final Environmental Assessment).

• NRC's PDR: You may examine and purchase copies of public documents at the NRC's PDR, Room O1-F21, One White Flint North, 11555 Rockville Pike, Rockville, Maryland 20852.

FOR FURTHER INFORMATION CONTACT: Tyrone D. Naquin, Office of Nuclear Material Safety and Safeguards, U.S. Nuclear Regulatory Commission, Washington, D.C. 20555-0001; telephone: 301-287-9144; email: Tyrone.Naquin@nrc.gov.

SUPPLEMENTARY INFORMATION:

I. Introduction

Pursuant to Section 2.106 of Title 10 of the Code of Federal Regulations (10 CFR), the NRC is providing notice of the issuance of License Renewal to Material License No. SNM-362, to NIST, which uses licensed materials for research, development, calibration, and testing activities. Under SNM-362, NIST develops, maintains, and disseminates national standards for ionizing radiation and radioactivity to support health care, industry, and homeland security at its Gaithersburg, Maryland location. The licensee's request for renewal of its license was previously made on June 29, 2007. In accordance with 10 CFR Part 51, an environmental assessment of this action was completed and a finding of no significant impact was published in the Federal Register on April 13, 2012 (77 FR 22362).

This license renewal complies with the standards and requirements of the Atomic Energy Act of 1954, as amended, and the NRC's rules and regulations as set forth in 10 CFR Chapter 1. Accordingly, this license renewal was issued on September 10, 2013, and is effective immediately.

II. Further Information

The NRC has prepared a Safety Evaluation Report (SER) that documents the information that was reviewed and the NRC's conclusion. In accordance with 10 CFR 2.390 of the NRC's “Agency Rules of Practice and Procedure,” details with respect to this action, including the SER and accompanying documentation included in the license renewal package, are available online in the NRC Library at http://www.nrc.gov/reading-rm/adams.html. From this site, you can access the NRC's Agencywide Documents Access and Management System (ADAMS), which provides text and image files of the NRC's public documents.

These documents may also be viewed electronically on the public computers located at the NRC's PDR, Room O-1F21, One White Flint North, 11555 Rockville Pike, Rockville, Maryland 20852. The PDR reproduction contractor will copy documents for a fee.

Dated at Rockville, Maryland, this 29th day of October 2013.
For the U.S. Nuclear Regulatory Commission.
Tyrone D. Naquin,
Project Manager, Fuel Manufacturing Branch, Division of Fuel Cycle Safety and Safeguards, Office of Nuclear Material Safety and Safeguards.

[FR Doc. 2013-26380 Filed 11-1-13; 8:45 am]

BILLING CODE 7590-01-P